NUCLEAR REGULATORY COMMISSION

[NRC-2009-0353]

Draft Regulatory Guide: Issuance, Availability

AGENCY: Nuclear Regulatory Commission.

ACTION: Notice of Issuance and Availability of Draft Regulatory Guide, DG-5029, “Pressure-Sensitive and Tamper-Indicating Device Seals for Material Control and Accounting Use.”

FOR FURTHER INFORMATION CONTACT: Steven Ward, U.S. Nuclear Regulatory Commission, Washington, DC 20555-0001, telephone: (301) 492-3426 or e-mail to Steven.Ward@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Pressure-Sensitive and Tamper-Indicating Device Seals for Material Control and Accounting Use,” is temporarily identified by its task number, DG-5029, which should be mentioned in all related correspondence. The NRC requires certain licensees to use tamper-indicating devices (TIDs) for material control and accounting (MC&A) and for physical security of special nuclear material (SNM). Title 10, part 70, “Domestic Licensing of Special Nuclear Material,” of the Code of Federal Regulations (10 CFR part 70) requires, in part, that no person subject to the regulations in 10 CFR part 70 may receive title to, own, acquire, deliver, receive, possess, use, or transfer SNM, except as authorized in a license issued by the NRC.

This regulatory guide (RG) replaces the existing RG 5.10, “Selection and Use of Pressure-Sensitive Seals on Containers for Onsite Storage of Special Nuclear Material,” issued July 1973 and the existing RG 5.15, “Tamper-Indicating Seals for the Protection and Control of Special Nuclear Material,” issued March 1997, with a new title, “Pressure-Sensitive and Tamper-Indicating Device Seals for MC&A Use.” RG 5.10 refers to a pressure-sensitive (PS) seal that is no longer in general use and may no longer be commercially available. RG 5.15 refers to tamper-indicating devices (TID) including PS seals. As a replacement, this guide describes a number of improved TIDs and PS seals developed in recent years primarily in response to commercial interests outside the nuclear industry.

II. Further Information

The NRC staff is soliciting comments on DG-5029. Comments may be accompanied by relevant information or supporting data and should mention DG-5029 in the subject line. Comments submitted in writing or in electronic form will be made available to the public in their entirety through the NRC's Agencywide Documents Access and Management System (ADAMS).

Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any of the following methods:

1. Mail comments to: Rulemaking and Directives Branch, Mail Stop: TWB-05-B01M, Office of Administration, U.S. Nuclear Regulatory Commission, Washington, DC 20555-0001.

2. Federal e-Rulemaking Portal: Go to http://www.regulations.gov and search for documents filed under Docket ID [NRC-2009-0353]. Address questions about NRC dockets to Carol Gallagher, 301-492-3668; e-mail Carol.Gallagher@nrc.gov.

3. Fax comments to: Rulemaking and Directives Branch, Office of Administration, U.S. Nuclear Regulatory Commission at (301) 492-3446.

Requests for technical information about DG-5029 may be directed to the NRC contact, Steven Ward at (301) 492-3426 or e-mail to Steven.Ward@nrc.gov.

Comments would be most helpful if received by October 13, 2009. Comments received after that date will be considered if it is practical to do so, but the NRC is able to ensure consideration only for comments received on or before this date. Although a time limit is given, comments and suggestions in connection with items for inclusion in guides currently being developed or improvements in all published guides are encouraged at any time.

Electronic copies of DG-5029 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML091670070.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 6th day of August, 2009.
For the Nuclear Regulatory Commission.
John N. Ridgely,
Acting Chief, Regulatory Guide Development Branch, Division of Engineering, Office of Nuclear Regulatory Research.

[FR Doc. E9-19458 Filed 8-12-09; 8:45 am]

BILLING CODE 7590-01-P